DEPARTMENT OF HOMELAND SECURITY

Transportation Security Administration

Intent To Request Extension From OMB of One Current Public Collection of Information: Airport Security

AGENCY: Transportation Security Administration, DHS.

ACTION: 60-Day notice.

SUMMARY: The Transportation Security Administration (TSA) invites public comment on one currently approved Information Collection Request (ICR), Office of Management and Budget (OMB) control number 1652-0002, abstracted below that we will submit to OMB for an extension in compliance with the Paperwork Reduction Act (PRA). The ICR will describe the nature of the information collection and its expected burden. TSA airport security programs require airport operators to submit certain information to TSA, as well as to maintain and update records to ensure compliance with security provisions.

DATES: Send your comments by December 3, 2024.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be made available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0002; Airport Security Part 1542. The information collection is used to determine compliance with 49 CFR part 1542 ¹ and to ensure passenger safety and security by monitoring airport operator security procedures. The information collection and other recordkeeping requirements that currently fall under this OMB control number are associated with an airport operator's compliance with TSA's regulatory requirements, including the following: (1) development of an Airport Security Program (ASP), submission to TSA for review and approval, and implementation; (2) as applicable, development of airport operator requested or TSA-required ASP amendments and temporary changed conditions, submission to TSA for review and approval, and implementation; (3) collection of data necessary to complete a criminal history records check (CHRC) for those individuals with unescorted access to a Security Identification Display Area (SIDA); (4) submission to TSA of identifying information about individuals to whom the airport operator has issued identification media, such as name, address, and country of birth, in order for TSA to conduct a Security Threat Assessment (STA); and (5) information collection and recordkeeping requirements associated with compliance with the regulation, employees who have access privileges to secured areas of the airport, and compliance with Security Directives (SDs) issued pursuant to the regulation.

¹ In July 2016, OMB approved TSA's request to revise OMB Control Number 1652-0002, by including in it the recordkeeping requirements under OMB Control Number 1652-0006, Employment Standards, which also applies to 49 CFR part 1542. This action combined two previously-approved ICRs into this single request to simplify TSA collections, increase transparency, and reduce duplication.

TSA will continue to collect information to determine airport operator compliance with other requirements of 49 CFR part 1542. TSA estimates that there will be approximately 435 airport operator respondents to the information collection requirements described above, with a total annual burden estimate of approximately 2,147,899 hours.

Dated: September 30, 2024.
Christina A. Walsh,
TSA Paperwork Reduction Act Officer, Information Technology.

[FR Doc. 2024-22943 Filed 10-3-24; 8:45 am]

BILLING CODE 9110-05-P